DEPARTMENT OF COMMERCE

International Trade Administration

[A-201-838]

Seamless Refined Copper Pipe and Tube From Mexico: Rescission, in Part, of Antidumping Duty Administrative Review; 2013-2014

AGENCY: Enforcement and Compliance, International Trade Administration, Department of Commerce.

DATES: Effective Date: April 2, 2015.

FOR FURTHER INFORMATION CONTACT: Elizabeth Eastwood or Dennis McClure, AD/CVD Operations, Office II, Enforcement and Compliance, International Trade Administration, U.S. Department of Commerce, 14th Street and Constitution Avenue NW., Washington, DC 20230; telephone: (202) 482-3874 or (202) 482-5973, respectively.

Background

On November 3, 2014, the Department of Commerce (Department) published a notice of opportunity to request an administrative review of the antidumping duty order on seamless refined copper pipe and tube from Mexico covering the period November 1, 2013, through October 31, 2014.¹ The Department received a timely request for an antidumping duty administrative review from the petitioners (i.e., Cerro Flow Products, LLC; Wieland Copper Products, LLC; Mueller Copper Tube Products, Inc.; and Mueller Copper Tube Company, Inc.) for the following companies: (1) GD Affiliates S. de R.L. de C.V. (Golden Dragon); (2) IUSA, S.A. de C.V. (IUSA); and (3) Nacional de Cobre, S.A. de C.V. (Nacobre). The Department also received timely requests for an antidumping duty administrative review from Golden Dragon, IUSA, and Nacobre. On December 23, 2013, the Department published a notice of initiation of administrative review with respect to these companies.²

¹ See Antidumping or Countervailing Duty Order, Finding, or Suspended Investigation; Opportunity To Request Administrative Review, 79 FR 65176 (November 3, 2014).

² See Initiation of Antidumping and Countervailing Duty Administrative Reviews, 79 FR 76956 (December 23, 2014).

On January 27, 2015, March 17, 2015, and March 19, 2015, IUSA, Golden Dragon, and Nacobre, respectively, withdrew their requests for an administrative review. On March 23, 2015, the petitioners withdrew their request for an administrative review for IUSA and Nacobre. All of these submissions were timely, pursuant to 19 CFR 351.213(d)(1).

Rescission, In Part

Pursuant to 19 CFR 351.213(d)(1), the Secretary will rescind an administrative review, in whole or in part, if a party that requested the review withdraws the request within 90 days of the date of publication of the notice of initiation of the requested review. In this case, all requests were submitted within the 90-day period and, thus, are timely. Because these withdrawals of requests for an antidumping duty administrative review are timely, in accordance with 19 CFR 351.213(d)(1), we are rescinding this administrative review with respect to IUSA and Nacobre. However, we are continuing the administrative review with respect to Golden Dragon because the petitioners have requested a review of this company, and we did not receive a timely withdrawal of review request from the petitioners with respect to it.

Assessment

The Department will instruct U.S. Customs and Border Protection (CBP) to assess antidumping duties on all appropriate entries. For the companies for which this review is rescinded, antidumping duties shall be assessed at rates equal to the cash deposit of estimated antidumping duties required at the time of entry, or withdrawal from warehouse, for consumption, in accordance with 19 CFR 351.212(c)(1)(i). The Department intends to issue appropriate assessment instructions to CBP 15 days after publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: March 27, 2015.
Christian Marsh,
Deputy Assistant Secretary for Antidumping and Countervailing Duty Operations.

[FR Doc. 2015-07598 Filed 4-1-15; 8:45 am]

BILLING CODE CODE 3510-DS-P